DEPARTMENT OF AGRICULTURE

Forest Service

Information Collection; Request for Comment; National Forest Visitor Use Monitoring

AGENCY: Forest Service, USDA.

ACTION: Notice.

SUMMARY: In accordance with the Paperwork Reduction Act of 1995, the Forest Service is seeking comments from all interested individuals and organizations on the extension with revision of information collection, National Forest Visitor Use Monitoring.

DATES: Comments must be received in writing on or before November 15, 2005 to be assured of consideration. Comments received after that date will be considered to the extent practicable.

ADDRESSES: Comments concerning this notice should be addressed to Dr. Donald B.K. English, NVUM Program Manager, USDA-Forest Service, 1400 Independence Ave SW., Washington, DC 20250.

Comments also may be submitted via facsimile to (202) 205-1145 or by e-mail to: denglish@fs.fed.us.

The public may inspect comments received at Room 4 Central, Yates Building, USDA-Forest Service, Recreation and Heritage Resources staff, 1400 Independence Ave. SW., Washington, DC during normal business hours. Visitors are encouraged to call ahead to (202) 205-9595 to facilitate entry to the building.

FOR FURTHER INFORMATION CONTACT: Dr. Donald B.K. English, Recreation and Heritage Resources staff, at (202) 205-9595. Individuals who use telecommunication devices for the deaf may call the Federal Relay Service at 1-800-877-8339, 24 hours a day, every day of the year, including holidays.

SUPPLEMENTARY INFORMATION:

Background

The Government Performance and Results Act of 1993 requires that Federal agencies establish measurable goals and monitor their success at meeting those goals. Two items the Forest Service must measure are: (1) The number of visits that occur on the National forest lands for recreation and other purposes, and (2) the views and satisfaction level of recreational visitors to National Forest System lands about the types and quality of recreation services the agency provides. The agency is often asked for this kind of information from a variety of organizations that include Congressional Staffs, newspapers, magazines, and recreational trade organizations.

National Forest System land managers will use the collected information to better understand their recreational customers, to improve recreational opportunities and services, and to identify barriers that prevent the agency from meeting the recreational needs of its customers. Data and results from this information collection are key considerations in revising land and resource management plans for National Forests, as required by the National Forest Management Act of 1976, and in agency strategic planning efforts. In addition, information and results from this collection are directly used in several of the OMB Program Analysis Reporting Tool (PART) measures for the Forest Service Recreation program. Examples include measures of customer satisfaction, participation in physically active outdoor activities, and estimates of recreation visitation.

The currently approved information collection is designed to estimate the number of visits to National Forests and Grasslands for recreation as well as obtain information on key management issues including the proportion of visitors that engage in various outdoor recreation activities, the geographic and demographic populations served, visitor satisfaction with facilities and services provided, the amount of recreational use that occurs on designated wilderness areas, and salient economic aspects of recreational use of National Forests. The collected information will be shared with all National Forest System land managers and upon request, with others. Results from this collection will be published in agency reports and various research journals.

The sampling design, survey instrument, and analysis protocols are also being tested at several areas by the Department of the Interior (DOI), Bureau of Land Management to evaluate the applicability of this collection as a scientifically-credible and effective means of obtaining visitation estimates and visitor characteristics on its lands. As well, the DOI National Park Service and Fish and Wildlife Service will be testing the protocols on their lands in Southern Nevada to obtain information needed to conform with the Southern Nevada Public Land Management Act.

Title: National Visitor Use Monitoring.

OMB Number: 0596-0110.

Expiration Date of Approval: April 30, 2006.

Type of Request: Extension with revision.

Abstract: Data from this information collection is used to estimate the number of recreational visits to National Forests and Grasslands, and designated wilderness areas, as well as the types of activities in which these visitors participate. The data are used to identify recreational markets, defined customers served, evaluate visitor satisfaction, and estimate the economic values and impacts of recreational visits. Respondents are asked questions about the activities in which they participate while visiting National Forest System lands, the duration of their visit, how often they visit, what types of items they have purchased during their visit, and their satisfaction with various aspects of the locations they visited.

Forest Service or contractor personnel will interview visitors as they exit National Forest System lands at a stratified random sample of recreational sites and forest access points. Surveys will be conducted on about one-fifth of the National Forests each year, so that complete coverage of agency lands occurs over a five-year cycle. Results of this study will be published in agency reports and various research journals. Data gathered in this collection is not available from other sources.

Estimate of Annual Burden: 10 minutes.

Type of Respondents: People who visit National Forest System lands.

Estimated Annual Number of Respondents: 66,000.

Estimated Annual Number of Responses per Respondent: 1.

Estimated Total Annual Burden on Respondents: 11,000 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: September 2, 2005.
Frederick R. Norbury,
Associate Deputy Chief, National Forest System.

[FR Doc. 05-18385 Filed 9-15-05; 8:45 am]

BILLING CODE 3410-11-P